ENVIRONMENTAL PROTECTION AGENCY

[EPA-HQ-OPP-2009-0629; FRL-8432-9]

Petition to Revoke Tolerances for 13 Pesticides; Notice of Availability

AGENCY: Environmental Protection Agency (EPA).

ACTION: Notice.

SUMMARY: EPA is announcing the availability and seeking comment on a July 23, 2009 petition from the American Bird Conservancy (ABC), requesting that EPA revoke tolerances established under the Federal Food, Drug and Cosmetic Act (FFDCA), section 408, for uses of 13 pesticides with no associated U.S. registrations. ABC claims that maintaining these tolerances allows Central and South American countries to continue using these pesticides on crops for which the United States has already determined there are unacceptable risks for U.S. protected migratory birds.

DATES: Comments must be received on or before November 2, 2009.

ADDRESSES: Submit your comments, identified by docket identification (ID) number EPA-HQ-OPP-2009-0629, by one of the following methods:

• Federal eRulemaking Portal: http://www.regulations.gov. Follow the on-line instructions for submitting comments.

• Mail: Office of Pesticide Programs (OPP) Regulatory Public Docket (7502P), Environmental Protection Agency, 1200 Pennsylvania Ave., NW., Washington, DC 20460-0001.

• Delivery: OPP Regulatory Public Docket (7502P), Environmental Protection Agency, Rm. S-4400, One Potomac Yard (South Bldg.), 2777 S. Crystal Dr., Arlington, VA. Deliveries are only accepted during the Docket Facility's normal hours of operation (8:30 a.m. to 4 p.m., Monday through Friday, excluding legal holidays). Special arrangements should be made for deliveries of boxed information. The Docket Facility telephone number is (703) 305-5805.

Instructions: Direct your comments to docket ID number EPA-HQ-OPP-2009-0629. EPA's policy is that all comments received will be included in the docket without change and may be made available on-line at http://www.regulations.gov, including any personal information provided, unless the comment includes information claimed to be Confidential Business Information (CBI) or other information whose disclosure is restricted by statute. Do not submit information that you consider to be CBI or otherwise protected through regulations.gov or e-mail. The regulations.gov website is an “anonymous access” system, which means EPA will not know your identity or contact information unless you provide it in the body of your comment. If you send an e-mail comment directly to EPA without going through regulations.gov, your e-mail address will be automatically captured and included as part of the comment that is placed in the docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the docket index available at http://www.regulations.gov. Although listed in the index, some information is not publicly available, e.g., CBI or other information whose disclosure is restricted by statute. Certain other material, such as copyrighted material, is not placed on the Internet and will be publicly available only in hard copy form. Publicly available docket materials are available either in the electronic docket at http://www.regulations.gov, or, if only available in hard copy, at the OPP Regulatory Public Docket in Rm. S-4400, One Potomac Yard (South Bldg.), 2777 S. Crystal Dr., Arlington, VA. The hours of operation of this Docket Facility are from 8:30 a.m. to 4 p.m., Monday through Friday, excluding legal holidays. The Docket Facility telephone number is (703) 305-5805.

FOR FURTHER INFORMATION CONTACT: Richard P. Dumas, Special Review and Reregistration Division (7508P), Office of Pesticide Programs, Environmental Protection Agency, 1200 Pennsylvania Ave., NW., Washington, DC 20460-0001; telephone number: (703) 308-8015; fax number: (703) 308-8005; e-mail address: dumas.richard@epa.gov.

SUPPLEMENTARY INFORMATION:

I. General Information

A. Does this Action Apply to Me?

This action is directed to the public in general, and may be of interest to a wide range of stakeholders, including environmental and agricultural advocates; the chemical industry; pesticide users; and foreign governments.

This listing is not intended to be exhaustive, but rather provides a guide for readers regarding entities likely to be affected by this action. Other types of entities not listed in this unit could also be affected. Since others also may interested, the Agency has not attempted to describe all specific entities that may be affected by this action. If you have any questions regarding the applicability of this action to a particular entity, consult the person listed under FOR FURTHER INFORMATION CONTACT.

B. What Should I Consider as I Prepare My Comments for EPA?

1. Submitting CBI. Do not submit this information to EPA through regulations.gov or e-mail. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When submitting comments, remember to:

i. Identify the document by docket ID number and other identifying information (subject heading, Federal Register date and page number).

ii. Follow directions. The Agency may ask you to respond to specific questions or organize comments by referencing a Code of Federal Regulations (CFR) part or section number.

iii. Explain why you agree or disagree; suggest alternatives and substitute language for your requested changes.

iv. Describe any assumptions and provide any technical information and/or data that you used.

v. If you estimate potential costs or burdens, explain how you arrived at your estimate in sufficient detail to allow for it to be reproduced.

vi. Provide specific examples to illustrate your concerns and suggest alternatives.

vii. Explain your views as clearly as possible, avoiding the use of profanity or personal threats.

viii. Make sure to submit your comments by the comment period deadline identified.

II. What Action is the Agency Taking?

EPA requests public comment during the next 60 days on a petition available under docket ID number EPA-HQ-OPP-2009-0629, received from the ABC. The petition requests that EPA revoke tolerances established under section 408 of the FFDCA for uses of 13 pesticides with no associated U.S. registrations. ABC claims that maintaining these tolerances allows Central and South American countries to continue using these pesticides on crops for which the United States has already determined there are unacceptable risks for U.S. protected migratory birds.

The Specific 13 Tolerances Requested for Revocation are:

Pesticide | Tolerance Requested for Revocation | CFR Citation
Cadusafos | Banana | 40 CFR 180.461
Cyproconazole | Coffee, bean, green (imported) | 40 CFR 180.485
Diazinon | Kiwifruit | 40 CFR 180.153
Dithianon | Fruit, pome, group 11 Hop, dried cones | 40 CFR 180.621
Diquat | Banana Coffee, bean, green | 40 CFR 180.226
Dimethoate | Blueberry | 40 CFR 180.204
Fenamiphos | Banana Fruit, citrus, group 10 Garlic Grape Pineapple | 40 CFR 180.349
Mevinphos | Broccoli Cabbage Cauliflower Celery Cucumber Grape Lettuce Melon Pea Pepper Spinach Squash, summer Strawberry Tomato Watermelon | 40 CFR 180.157
Methomyl | Hop, dried cones | 40 CFR 180.253
Naled | Cucumber Lettuce Tomato Pumpkin Squash, winter Turnip, tops | 40 CFR 180.215
Phorate | Coffee, bean, green | 40 CFR 180.206
Terbufos | Coffee, bean, green | 40 CFR 180.352
Dichlorvos | Tomato | 40 CFR 180.235

ABC also asserts that should EPA believe that tolerances for import purposes are necessary, it must consult with the U.S. Fish and Wildlife Service to retain the tolerances listed above to “identify where unintentional take reasonably attributable to agency actions is having, or is likely to have, a measurable negative effect on migratory bird populations...” and “develop and use principles, standards and practices that will lessen the amount of unintentional take...”

List of Subjects

Environmental protection, Pesticides and pest.

Dated: August 24, 2009.
Peter Caulkins,
Acting Director, Special Review and Reregistration Division, Office of Pesticide Programs.

[FR Doc. E9-21124 Filed 8-31-09; 8:45 am]

BILLING CODE 6560-50-S